DEPARTMENT OF ENERGY

Federal Energy Regulatory Commission

[Docket No. CP02-8-000]

Copper Eagle Gas Storage, L. L. C.; Notice of Petition

October 26, 2001.

Take notice that on October 17, 2001, Copper Eagle Gas Storage, L. L. C. (Copper Eagle), Phoenix, Arizona, filed a Petition for Exemption of Temporary Acts and Operations from Certificate Requirements, pursuant to rule 207(a)(5) of the Commission's Rules of Practice and Procedure (18 CFR 387.207(a)(5)), and section 7(c)(1)(B) of the Natural Gas Act (15 U.S.C. 717(c)(1)(B)), seeking approval of an exemption from certificate requirements to perform temporary activities related to drill site preparation and the drilling of a stratigraphic test well. The petition is on file with the Commission and open to public inspection. This filing may also be viewed on the Web at http://www.ferc.gov using the “RIMS” link, select “Docket #” and follow the instructions (please call (202) 208-2222 for assistance).

Copper Eagle seeks authorization to engage in certain temporary activities for the sole purpose of drilling a 7,000 foot stratigraphic test well, through the Luke salt deposit and into the sub-salt strata. This well will be located in Section 24, Township 2 North, Range 2 West, Maricopa County, Arizona. The temporary activities for which approval is requested is the drilling of a stratigraphic well, the identification of the characteristics of the strata, and the plugging and abandonment of the well according to the requirements of the Arizona Oil and Gas Conservation Commission. Copper Eagle states the proposed stratigraphic test well is critical in determining the feasibility of utilizing deep injection as the method of brine disposal during the possible development of a natural gas salt cavern storage facility. Copper Eagle also requests the Commission include pre-granted abandonment authority under section 7(b) of the Natural Gas Act to the extent it is necessary or required.

Any questions regarding this petition are to be directed to J. Gordon Pennington, Senior Counsel, El Paso Corporation, 555 11th St. NW., Suite 750, Washington, DC 20004, Phone (202) 637-3544 or facsimile (202) 637-3501.

There are two ways to become involved in the Commission's review of this project. First, any person wishing to obtain legal status by becoming a party to the proceedings for this project should, on or before November 7, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests, and interventions may be filed electronically via the internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

David P. Boergers,
Secretary.

[FR Doc. 01-27532 Filed 11-1-01; 8:45 am]

BILLING CODE 6717-01-P